DEPARTMENT OF AGRICULTURE

Forest Service

Shoshone Resource Advisory Committee

AGENCY: Forest Service, USDA.

ACTION: Notice of meeting.

SUMMARY: The Shoshone Resource Advisory Committee (Committee) is holding a meeting on September 19, 2012. The meeting was advertised as taking place in Thermopolis at Big Horn Federal Savings but is being changed to a conference call. This change is being made to increase participation by Committee members and to reduce funds spent on travel. The purpose of the meeting is to finalize selection of projects to recommend for 2012 Title II funds.

DATES: The conference call will be held September 19, 2012, at 9 a.m.

ADDRESSES: The meeting is being changed to a conference call.

FOR FURTHER INFORMATION CONTACT: Olga Troxel, Resource Advisory Committee Coordinator, Shoshone National Forest Supervisor's Office, (307) 578-5164.

Individuals who use telecommunication devices for the deaf (TDD) may call the Federal Information Relay Service (FIRS) at 1-800-877-8339 between 8 a.m. and 8 p.m., Eastern Standard Time, Monday through Friday.

SUPPLEMENTARY INFORMATION: The conference call is open to the public. The following business will be conducted: Finish reviewing project proposals and select projects to recommend for 2012 SRS Title II funding. Persons who wish to bring related matters to the attention of the Committee may file written statements with the Committee staff before or after the meeting. Public input sessions will be provided.

Dated: September 7, 2012.
Joseph G Alexander,
Forest Supervisor.

[FR Doc. 2012-22531 Filed 9-12-12; 8:45 am]

BILLING CODE 3410-11-P